DEPARTMENT OF COMMERCE

Foreign-Trade Zones Board

[Order No. 1718]

Reorganization of Foreign-Trade Zone 3 Under Alternative Site Framework; San Francisco, CA

Pursuant to its authority under the Foreign-Trade Zones Act of June 18, 1934, as amended (19 U.S.C. 81a-81u), the Foreign-Trade Zones Board (the Board) adopts the following Order:

Whereas, the Board adopted the alternative site framework (ASF) in December 2008 (74 FR 1170, 01/12/09; correction 74 FR 3987, 01/22/09) as an option for the establishment or reorganization of general-purpose zones;

Whereas, the San Francisco Port Commission, grantee of Foreign-Trade Zone 3, submitted an application to the Board (FTZ Docket 39-2010, filed 05/21/2010) for authority to reorganize under the ASF with a service area of the City and County of San Francisco and San Mateo County, California, within and adjacent to the San Francisco Customs and Border Protection port of entry, FTZ 3's existing Site 1 would be deleted and Sites 2 through 4 would be categorized as usage-driven sites;

Whereas, notice inviting public comment was given in the Federal Register (75 FR 29974, 05/28/10) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to reorganize FTZ 3 under the alternative site framework is approved, subject to the FTZ Act and the Board's regulations, including Section 400.28, to the Board's standard 2,000-acre activation limit for the overall general-purpose zone project, and to a three-year ASF sunset provision for usage-driven sites that would terminate authority for Sites 2, 3 and 4 if no foreign-status merchandise is admitted for a bona fide customs purpose by October 31, 2013.

Signed at Washington, DC, this 7th day of October 2010.
Ronald K. Lorentzen,
Deputy Assistant Secretary for Import Administration, Alternate Chairman, Foreign-Trade Zones Board.
Attest:
Andrew McGilvray,
Executive Secretary.

[FR Doc. 2010-26407 Filed 10-19-10; 8:45 am]

BILLING CODE P